DEPARTMENT OF AGRICULTURE

Submission for OMB Review; Comment Request

February 27, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by April 4, 2013 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: Importation of Products of Poultry and Birds.

OMB Control Number: 0579-0141.

Summary of Collection: The Animal Health protection Act (AHPA) of 2002 is the primary Federal law governing the protection of the health of animals under the Animal & Plant Health Inspection Service (APHIS) regulatory authority. The law gives the Secretary of Agriculture broad authority to detect, control, or eradicate pests or diseases of livestock or poultry. The AHPA is contained in Title X, Subtitle E, and Sections 10401-18 of Public Law 107-171, dated may 13, 2002, and the Farm Security and Rural Investment Act of 2002. The regulations under which disease prevention activities are contained are in Title 9, Chapter 1, Subchapter D, and Parts 91 through 99 of the Code of Federal Regulations. The purpose of these regulations is to allow poultry meat that originates in the United States to be shipped, for processing purposes, to a region where exotic Newcastle disease exists, and then returned to the United States. The process entails the use of four information collection activities in the form of a certificate of origin that must be issued, including serial numbers that must be recorded, records that must be maintained, and cooperative service agreements that must be signed and an a certificates for shipment back to the United States.

Need and Use of the Information: APHIS will collect information to ensure that imported poultry carcasses pose a negligible risk of introducing END into the United States. If the information is not collected, it would significantly cripple APHIS' ability to ensure that poultry carcasses imported from regions affected with END pose a negligible risk of introducing this disease into the United States.

This would make a disease incursion event much more likely, with potentially devastating effects on the U.S. poultry industry.

Description of Respondents: Business or other for-profit; Federal Government.

Number of Respondents: 4.

Frequency of Responses: Recordkeeping; Reporting: On occasion.

Total Burden Hours: 129.

Ruth Brown,
Departmental Information Collection Clearance Officer.

[FR Doc. 2013-04941 Filed 3-4-13; 8:45 am]

BILLING CODE 3410-34-P